Title 3—

The President

Proclamation 7827 of October 6, 2004

German-American Day, 2004

By the President of the United States of America

A Proclamation

Generations of German immigrants and their descendents have helped build America and chart its course through history. On German-American Day, we recognize these proud citizens for their important contributions to America and honor the bond between two great nations.

German Americans have been part of America's history since its earliest days, beginning with the establishment of the Jamestown Colony in 1607 and the arrival of German Quakers and Mennonite families in 1683. Many of these early settlers came to America seeking religious freedom and the chance to develop a community based on tolerance and respect for all people. During the westward expansion of the United States, many German families helped settle communities, found cities, and develop the agriculture industry. Over time, the core beliefs of these freedom-loving individuals helped define the liberty and opportunity that our country represents. Their traditions of public debate and active citizenship influenced important social issues such as land reform, abolition, workers' rights, and women's suffrage.

This week, our Government is breaking ground for a new Embassy in historic Berlin, exemplifying America's support of a unified Germany. Sharing a common commitment to freedom, peace, and prosperity, the citizens of Germany and America can build a better future for the benefit of all nations.

NOW, THEREFORE, I, GEORGE W. BUSH, President of the United States of America, by virtue of the authority vested in me by the Constitution and laws of the United States, do hereby proclaim October 6, 2004, as German-American Day, and I encourage all Americans to recognize the contributions of our citizens of German descent.

IN WITNESS WHEREOF, I have hereunto set my hand this sixth day of October, in the year of our Lord two thousand four, and of the Independence of the United States of America the two hundred and twenty-ninth.

B

[FR Doc. 04-22986

Filed 10-08-04; 9:12 am]

Billing code 3195-01-P